DEPARTMENT OF TRANSPORTATION

Federal Motor Carrier Safety Administration

[Docket No. FMCSA-2006-24931]

Medical Review Board Public Meeting

AGENCY: Federal Motor Carrier Safety Administration (FMCSA), United States Department of Transportation (DOT).

ACTION: Medical Review Board (MRB) Public Meeting.

SUMMARY: The MRB Public Meeting will provide the public an opportunity to observe and participate in MRB deliberations about the revision and development of Federal Motor Carrier Safety Regulation (FMCSR) medical standards, in accordance with the Federal Advisory Committee Act (FACA).

DATES: The MRB meeting will be held from 9 a.m.-1 p.m. on August 31, 2006. A public listening session will be held from 2 p.m.-5 p.m. Please note the preliminary agenda for this meeting in the SUPPLEMENTARY INFORMATION section of this Notice for specific information.

ADDRESSES: The meeting will take place at the U.S. Department of Transportation, 400 Seventh Street, SW., Nassif Building, Room PL-2230, Washington, DC 20590-0001. The public must enter through the Southwest Visitor Entrance and comply with building security procedures, including provision of appropriate identification prior to escort to meeting room.

You may submit comments identified by DOT Docket Management System (DMS) Docket Number FMCSA-2006-24931 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this Notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the U.S. Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, 202-366-4001, FMCSA, Department of Transportation, 400 Seventh Street, SW., Washington, DC 20590-0001. Office hours are from 8:30 a.m. to 5 p.m. Monday through Friday, except Federal holidays.

Information on Services for Individuals with Disabilities: For information on facilities or services for individuals with disabilities or to request special assistance at the meeting, contact Kaye Kirby at 202-366-4001.

SUPPLEMENTARY INFORMATION: The following designations are made for each item: (A) is an “action” item; (I) is an “information item”; and (D) is a “discussion” item.

The preliminary agenda for the MRB meeting includes:

0800-0900 | Meeting Registration (includes request for oral testimony)
0900-1100 | (1) Call to Order and Introductions (A, I) (2) Statements of Conflict of Interest (A, I) (3) Written Comment to the Board (A, D) (4) Federal Reports (Diabetes, Schedule II Drugs, other medical topics pending) (A, D)
1100-1200 | (5) Public Comment (A, D)
1200-1300 | (6) 2006 Agenda, Research Questions, Other Issues (A, I, D)
1300 | (7) Adjourn
1400-1700 | (8) Listening Session (A, D)

Background

U.S. Secretary of Transportation Norman Y. Mineta announced on March 7, 2006, the five medical experts who will serve on FMCSA's new MRB. Section 4116 of the Safe, Accountable, Flexible, Efficient Transportation Equity Act: A Legacy for Users (SAFETEA-LU, Pub. L. 109-59) requires the Secretary of Transportation with the advice of the MRB and a Chief Medical Examiner to “establish, review, and revise medical standards for operators of commercial motor vehicles (CMVs) that will ensure that the physical condition of operators is adequate to enable them to operate the vehicles safely.” FMCSA is planning updates to the physical qualification regulations of CMV drivers, and the MRB will provide the necessary science-based guidance to establish realistic and responsible medical standards.

The MRB will operate in accordance with FACA as announced in the Federal Register (70 FR 57642, October 3, 2005). The MRB will be charged initially with the review of all current FMCSR medical standards (49 CFR 391.41), as well as proposing new science-based standards and guidelines to ensure that drivers operating CMVs in interstate commerce, as defined in CFR 390.5, are physically qualified to do so.

Meeting Participation

Attendance is open to the interested public, including medical examiners, motor carriers, drivers, and representatives of medical and scientific associations. The public can participate in a listening session which will be held from 2 p.m.-5 p.m. at the same location. Written comments for the MRB meeting will also be accepted beginning on July 26, 2006 and continuing until September 15, 2006, and should include the docket number that is listed in the ADDRESSES section. During the MRB meeting (1100-1200), oral comments may be limited depending on how many persons wish to comment; and will be accepted on a first come, first serve basis as requestors register at the meeting. The comments must directly address relevant medical and scientific issues on the MRB meeting agenda. For more information, view the following Web site: http://www.fmcsa.dot.gov/mrb.

Issued on: June 19, 2006.
David H. Hugel,
Acting Administrator.

[FR Doc. E6-10041 Filed 6-23-06; 8:45 am]

BILLING CODE 4910-EX-P